DEPARTMENT OF JUSTICE

Antitrust Division; Notice Pursuant to the National Cooperative Research and Production Act of 1993—HDP User Group International, Inc.

Notice is hereby given that, on March 1, 2000, pursuant to Section 6(a) of the National Cooperative Research and Production Act of 1993, 15 U.S.C. 4301 et seq. (“the Act”), HDP User Group International, Inc. has filed written notifications simultaneously with the Attorney General and the Federal Trade Commission disclosing changes in its membership status. The notifications were filed for the purpose of extending the Act's provisions limiting the recovery of antitrust plaintiffs to actual damages under specified circumstances. Specifically, Abpac Inc., Phoenix, AZ; Celestica Limited, Kidsgrove, UNITED KINGDOM; and Interconnection Technology Research Institute (“ITRI”), Austin, TX; have been added as parties to this venture. Also, VLSI Technology, Inc., San Jose, CA; and Kyrel EMS Oyj, Kyroskoski, FINLAND have been dropped as parties to this venture. IMC, Linksping, SWEDEN has changed its name to Acreo.

No other changes have been made in either the membership or planned activity of the group research project. Membership in this group research project remains open, and HDP User Group International, Inc. intends to file additional written notification disclosing all changes in membership.

On September 14, 1994, HDP User Group International, Inc. filed its original notification pursuant to Section 6(a) of the Act. The Department of Justice published a notice in the Federal Register pursuant to Section 6(b) of the Act on March 23, 1995 (60 FR 15306).

The last notification was filed with the Department on August 31, 1999. A notice has not yet been published in the Federal Register.

Constance K. Robinson,
Director of Operations, Antitrust Division.

[FR Doc. 00-20894 Filed 8-16-00; 8:45 am]

BILLING CODE 4410-11-M